DEPARTMENT OF HEALTH AND HUMAN SERVICES

Centers for Disease Control and Prevention

[Program Announcement 04256]

Expansion of Psychosocial Support and Peer Counseling Services to HIV-Infected Women and Their Families in Botswana—Amendment

A notice announcing the availability of fiscal year (FY) 2004 funds for Expansion of Psychosocial Support and Peer Counseling Services to HIV-Infected Women and Their Families in Botswana was published in the Federal Register on July 20, 2004, volume 69, number 138, pages 43421-43425. The notice is amended as follows:

• Page 43421, second column, the correct Catalog of Federal Domestic Assistance number is 93.941.

• Page 43421, second column, the correct application due date is August 19, 2004.

Dated: July 23, 2004.
William P. Nichols,
Acting Director, Procurement and Grants Office, Centers for Disease Control and Prevention.

[FR Doc. 04-17281 Filed 7-28-04; 8:45 am]

BILLING CODE 4163-18-P